DEPARTMENT OF ENERGY

Federal Energy Regulatory Commission

[Docket No. CP03-297-000]

Northwest Natural Gas Company; Notice of Compliance Filing

June 4, 2003.

Take notice that on May 15, 2003, Northwest Natural Gas Company (Northwest Natural), filed with the Federal Energy Regulatory Commission (Commission) an application pursuant to section 7 of the Natural Gas Act (NGA) and § 284.224 of the Commission's regulations to amend its limited jurisdiction blanket certificate of public convenience and necessity to allow it to use its capacity on the Kelso Beaver (KB) pipeline system, now or hereafter acquired, to transport gas which it does not own and to receive natural gas from, and deliver natural gas to, Northwest Pipeline Corporation at its interconnections with KB for its FERC jurisdictional customers. Northwest Natural also requests related waivers of the shipper must have title and capacity brokering rules so that it can use its KB capacity without restriction for its FERC jurisdictional customers, that the Commission confirm that granting the certificate amendment and the waivers will not affect Northwest Natural's exemptions under section 1(c) and other sections of the NGA, and that the Commission grant other approvals which may be appropriate, consistent with the application.

Any person desiring to be heard or to protest said filing should file a motion to intervene or a protest with the Federal Energy Regulatory Commission, 888 First Street, NE., Washington, DC 20426, in accordance with § 385.214 or 385.211 of the Commission's Rules and Regulations. All such motions or protests must be filed on or before the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 16, 2003.

Magalie R. Salas,
Secretary.

[FR Doc. 03-14610 Filed 6-10-03; 8:45 am]

BILLING CODE 6717-01-P